ENVIRONMENTAL PROTECTION AGENCY

[EPA-HQ-OPP-2016-0548; FRL-9952-54]

Cancellation of Pesticides for Non-Payment of Year 2016 Registration Maintenance Fees; Summary of Orders Issued

AGENCY: Environmental Protection Agency (EPA).

ACTION: Notice.

SUMMARY: Under the Federal Insecticide, Fungicide, and Rodenticide Act (FIFRA), the payment of an annual maintenance fee is required to keep pesticide registrations in effect. The fee due last January 15, 2016, has gone unpaid for 314 registrations. If the fee is not paid, the EPA Administrator may cancel these registrations by order and without a hearing; orders to cancel these registrations have been issued.

FOR FURTHER INFORMATION CONTACT: Mick Yanchulis, Information Technology and Resources Management Division (7502P), Office of Pesticide Programs, Environmental Protection Agency, 1200 Pennsylvania Ave. NW., Washington, DC 20460-0001; telephone number: (703) 347-0237; email address: yanchulis.michael@epa.gov.

Product-specific status inquiries may be made by calling toll-free, 1-800-444-7255.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2016-0548, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Complete lists of registrations canceled for non-payment of the maintenance fee are also available for reference in the OPP Docket.

II. Background

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2016, maintenance fees were collected in one billing cycle. In late October of 2015, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in April of 2016 to companies who did not respond and to companies who responded, but paid for less than all of their registrations. Since mailing the notices of intent to cancel, EPA has maintained a toll-free inquiry number through which the questions of affected registrants have been answered.

In fiscal year 2016, the Agency has waived the fee for 304 minor agricultural use registrations at the request of the registrants. Maintenance fees have been paid for about 15,921 FIFRA section 3 registrations, or about 96% of the registrations on file in October 2015. Fees have been paid for about 1,901 FIFRA section 24(c) registrations, or about 87% of the total on file in October 2015. Cancellations for non-payment of the maintenance fee affect about 307 FIFRA section 3 registrations and about 7 FIFRA section 24(c) registrations.

The cancellation orders generally permit registrants to continue to sell and distribute existing stocks of the canceled products until January 15, 2017, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2016 maintenance fee. These registrations have been canceled by order and without hearing. Cancellation orders were sent to affected registrants via certified mail in the past several days. The Agency is unlikely to rescind cancellation of any particular registration unless the cancellation resulted from Agency error.

Table 1—FIFRA Section 24(c) Registrations Cancelled for Non-Payment of 2016 Maintenance Fee
SLN No. | Product name
CA-15-0004 | Hasachlor.
CA-77-0058 | Pic-Brom 50.
CA-97-0016 | Methyl Bromide 98%.
FL-06-0009 | MBC Soil Fumigant.
HI-03-0008 | PPG Calcium Hypochlorite Tablets.
MN-14-0003 | Earthtec.
PR-03-0002 | BVA Spray 15.

Table 2—FIFRA Section 3 Registrations Cancelled for Non-Payment of 2016 Maintenance Fee
Registration No. | Product name
000099-00130 | Great Outdoors Insect Repellent Lotion.
000192-00188 | Dexol Dormant & Summer Oil Spray II.
000192-00193 | Dexol Predator Roach Powder with Boric Acid.
000192-00205 | Dexol Gopher Killer Pellets 2.
000192-00219 | Dexol Lawn Insect Bifen 0.1%.
000192-00220 | Bifen Nursery Insecticide Granules.
000211-00040 | Q4.5-5.0 PB-4.5.
000211-00050 | Q5.5-5.5 NPB-2.5HW.
000266-20002 | Sodium Hypochlorite Solutions—10%.
000278-00050 | Sanygen Granular Chlorinating Compound.
000397-00006 | Steri-Dri Fumigant.
000572-00005 | Rockland Penn-O-Pine Pine Disinfectant.
000572-00350 | Rockland Indoor/Outdoor Insect Spray.
000769-00574 | Suregard Brand Sevin 80S Carbaryl Insecticide.
000769-00586 | R & M Floral & Vegetable Spray #2.
000769-00587 | R & M Floral & Vegetable Spray Concentrate.
000769-00589 | R & M Lawn Spray Concentrate #2.
000769-00856 | Pratt Wettable Sulfur Dust or Spray.
000769-00945 | Liquid Edger & Spot Weed.
000769-00972 | Security Brand 50% Sevin Wettable.
000769-00980 | Allpro Bifen LP.
000773-00088 | Safecide Brand IC.
000829-00202 | SA-50 Brand Thuricide HPC.
000875-00194 | Divosan Quat-Klenz.
001022-00592 | Secure.
001043-00019 | Staphene Disinfectant Spray and Deodorizer.
001043-00077 | Powder Keg.
001157-00052 | IGR 1% Liquid Methoprene.
001475-00165 | IMS Moth Balls.
001475-00166 | IMS Moth Blocks.
001475-00167 | IMS Moth Cake.
001475-00168 | IMS Moth Crystals.
001769-00283 | Flash.
001769-00370 | P-O-W Plus.
003095-00024 | Pic Ant Control Systems.
003095-00027 | Pic X-100% Deet.
003377-00029 | Sanibrom 45 Biocide.
003377-00063 | SBS 1021 Biocide.
003377-00071 | Xtrabrom 111T Biocide.
003573-00091 | Homer.
004313-00041 | Pine II Pine Odor Disinfectant.
004313-00093 | Ocide Plus.
004972-00030 | Super Hi-Kil Formula One.
005736-00061 | HDC V2 1:64.
005736-00104 | Hospital Disinfectant Cleaner.
005736-00105 | Liquid Disinfectant Cleaner.
005736-00106 | Foaming Aerosol Disinfectant Cleaner.
005785-00057 | Bromicide.
005785-00063 | IWT BCDMH Tablets.
005785-00065 | IWT BCDMH Granules.
005785-00100 | 501 BT.
005785-00105 | Dihalo.
005785-00106 | Dihalo Granular.
005785-00107 | Dihalo Granular.
005785-00108 | Dihalo Tablets.
005887-00161 | Black Leaf Sulfur Dust.
005887-00179 | Black Leaf Mole & Gopher Killer Pelleted Bait.
006198-00011 | Q-IV.
006383-00001 | Ferret Rodenticide.
006458-00005 | Rotenone Resin for Manufacturing Use Only.
006458-00006 | Cube Powder.
007405-00039 | Chemi-Cap Germicidal Multi-Purpose Cleaner.
007546-00026 | Liquid Disinfectant Cleaner.
007546-00027 | Hospital Disinfectant Cleaner.
007546-00028 | Foaming Aerosol Disinfectant Cleaner.
007698-00007 | Hubbard One To One Rol Mineral.
007726-00024 | Klor 300 Chlorine Base Sanitizer.
008155-00012 | Sanitizer Virucidal Husky 803 S/V Disinfectant.
008155-00017 | Carpet Sanitizer Husky C/S Carpet Extraction Concentrate.
008155-00019 | New Power Husky 315 N/P Bowl Cleaner.
008155-00022 | Husky 805 C/D.
008155-00023 | Husky 806 H/D/N.
008155-00024 | Husky 800 N/D.
008848-00063 | Black Jack Jet Action Crawling Insect Spray.
008848-00071 | Black Jack D-200 Insect Killer.
008848-00076 | Landlord's Multipurpose 0.5% Liquid Formula.
008848-00080 | Landlord's Oil Base Crawling Insect Killer.
009198-00065 | The Anderson's Crabgrass Preventer with 4.7% Tupersan.
009198-00149 | The Anderson's Easy Weed 'n Green.
009198-00183 | The Anderson's Golf Products FF II 14-3-3 with PCNB Fungicide.
009198-00205 | The Anderson's Golf Products Turf Enhancer 2SC.
009198-00209 | The Anderson's Fertilizer Plus Preemergent Weed Control.
009198-00215 | The Anderson's Fertilizer with 0.25% Paclobutrazol.
009198-00217 | The Anderson's Fertilizer with 0.039% Bifenthrin Insecticide.
009198-00233 | The Anderson's GC Bicarb Insecticide + Fertilizer.
009198-00239 | The Anderson's 0.077% Bifenthrin + 0.155% Imidacloprid Granular Insect.
009743-00007 | Skasol Microbiocide No. H.
009886-00002 | Unipine 85.
009886-00004 | Unipine 80.
009886-00010 | Unipine 60.
009886-00012 | Uniclean 30/60.
009886-00016 | Uniclean 19.9/60.
009886-00017 | Uniclean 19.9/85.
010707-00037 | BPC 68955.
010897-00033 | One Inch Chlorinating Tablets Repack.
010897-00034 | 3 Inch Chlorinating Tablets.
011668-00010 | T & R Brand Pine Disinfectant.
011668-00013 | EL Pinol 60.
011694-00088 | Do It All Germicidal Foaming Cleaner.
011694-00113 | Scrubs.
012017-00003 | Aquaphenate.
013283-00032 | Rainbow ETOC(R) 0.135% Wasp & Hornet Spray.
013283-00033 | Rainbow ETOC(R) 0.15% Wasp & Hornet Spray.
013283-00035 | Rainbow ETOC(R) 0.186% Wasp & Hornet Spray.
013808-00007 | Compound 1080 Livestock Protection Collar.
015136-00010 | Med-Chem Germicidal Solution.
015300-00008 | Chemtreat CL-200.
017545-00009 | Treflan E.C. Weed and Grass Preventer.
024061-00001 | Technical Piperonyl Butoxide.
036739-20001 | Sinco Super Shok.
037256-00001 | Protect 'n Shield Antimicrobial.
041550-00001 | R.P.S. Humidifier Bacteria-Algae Treatment.
044891-00018 | Bio-Boostactivator.
046622-00001 | Micro-Biocide; SF-54.
047033-00012 | AQB-004 Microbiocide.
047362-00003 | Seabright Roach Bait.
048482-00007 | Cal Hypo Giant Tabs.
049620-00012 | Peroxy-Blend PB33 S/D.
049827-00002 | Pine Glo.
051219-00001 | Refresh.
051219-00003 | Actabs.
051219-00004 | Actabs XX.
052134-00001 | Chlorine Liquified Gas Under Pressure.
053735-00015 | King Brom.
054998-00002 | Granular Stabilized Concentrated Dry Granular Chlorinating Product.
054998-00005 | Algaecide.
055070-00002 | Carpet—Guard.
056336-00013 | Checkmate CM 180/1-P Dispenser.
056336-00054 | Checkmate SPM Dispenser.
056336-00061 | Checkmate CM Primo.
057538-00021 | N-Large 20 SP.
057538-00022 | N-Large 40 SP.
057538-00023 | N-Large 10 SP.
058044-00003 | Consan Triple Action 20.
058639-00005 | Car-Mac Insecticidal Die-No-Mite Strip.
059638-00002 | MB-IS01.5.
060061-00089 | Woodlife Milltreat Type F VM & P.
061468-00010 | Creosote Coal Tar Solution.
061468-00011 | Creosote Oil.
064962-00004 | ET-20.
065864-00001 | SM-9.
066243-00003 | Quik Control.
067517-00009 | I-O Concentrate.
067517-00033 | Residual Livestock and Poultry Insecticide.
067517-00044 | Hard Hitter Cattle Pour-On Insecticide.
067517-00048 | Canine Shampoo.
067517-00052 | 5.7% Insecticide.
067517-00055 | Permethrin Water-Base Spray.
067517-00058 | Insecticide Shampoo for Animals.
067517-00059 | IGR Flea and Insect Spray.
067517-00078 | Tick and Mosquito Permethrin Repellent.
067517-00082 | Rabon Dust for Dogs and Cats.
070627-00010 | Johnson's Forward Cleaner.
070627-00021 | Virex II/128.
070627-00055 | Closure Central 25.
070791-00002 | Envirotru.
070791-00003 | Geotru.
070791-00004 | Eco Tru Revised.
070852-00006 | AGC 0.05 AG.
071407-00002 | Chlorine Grape Guard.
071838-00001 | AT-5.
072083-00002 | Halosource Bleach.
072112-00005 | Mainsail WDG.
072112-00006 | Mainsail 6.0 F.
072159-00003 | Chlorosel Pro DF Fungicide.
072642-00009 | Assurity Cat.
072804-00002 | Doktor Doom House & Garden Insect Killer.
073314-00009 | Chromo Bio-Insecticide TGAI.
073314-00010 | Chromo Bio-Insecticide EP.
073314-00012 | Quelzor WP.
073479-00001 | Paramount Aerosol PTB.
073637-00005 | Cycloate 6-E Selective Herbicide.
073667-00007 | MB 2001 XG.
073754-00001 | 2,4-D Acid Technical.
073754-00002 | Growell 2,4-D 2-Ethylhexyl Ester Technical.
074075-00002 | Intace Fungicide B-350.
074395-00001 | Materia PTB Technical Pheromone.
074681-00006 | Copper Shield SCX.
075341-00004 | Patox-Lite.
080967-00012 | Revolution G N Go Herbicide.
081002-00002 | Chlorine Free Splashes Sanitizer.
081002-00003 | Splashes Too Swimming Pool Sanitizer.
081882-00001 | Triangle Brand Copper Sulfate Powder.
081882-00002 | Triangle Brand Copper Sulfate Crystal.
081882-00003 | Triangle Brand Copper Sulfate Pentahydrate Mup.
082074-00003 | Mycotrol O.
082571-00001 | Csc Wettable or Dusting Sulfur.
083525-00006 | Absolute Chlor 65 (Calcium Hypochlorite).
083991-00002 | Fungaflor Seed.
084398-00001 | CZL Oxidize 7.5.
084542-00002 | Cupron Cupric Oxide.
084542-00006 | Cupron 2% Anti-Dustmite Fibers and Fabrics.
084542-00014 | Cupron Water System.
084699-00002 | Bavicbrom Tablet for Manufacturing Use Only.
084699-00004 | Bavicbrom Powder for Manufacturing Use Only.
084886-00003 | AAT Consumer Weed & Feed 01.
084930-00001 | ARC-Camba 4 DMA.
084930-00002 | ARC-Imida 4#.
084930-00003 | ARC-Mepiquat Chloride 4.2%.
084930-00004 | ARC-Bifenicide 25EC.
084930-00005 | ARC-Imida 600 ST.
084930-00006 | ARC-Clethodim #2.
084930-00007 | ARC-Chlor 4# AG.
084930-00009 | AGC-Camba + 2,4-D DMA.
084930-00010 | ARC-Gly Plus.
084930-00011 | ARC-Imida 2#.
084930-00013 | ARC-Teb 3.6 Flowable Fungicide.
084930-00014 | ARC-Met 60.
084930-00015 | ARC-Lamcy 2.
084930-00016 | ARC-Gly 53.8% Herbicide.
084930-00017 | ARC Chlormet Herbicide.
084930-00018 | ARC SU 50/25 Herbicide.
084930-00019 | ARC-SU 25/25 Herbicide.
084930-00020 | ARC SU 40/10 Herbicide.
084930-00021 | ARC SU TBN 75 Herbicide.
084930-00022 | ARC SU TFS 75 Herbicide.
084930-00024 | ARC-ATZ 4L Herbicide.
084930-00025 | ARC-Metolachlor.
084930-00026 | ARC-2,4-D Amine 4.
084930-00027 | ARC-DGCA Herbicide.
084930-00028 | ARC-LV-4.
084930-00029 | ARC-TDZ SC Cotton Defoliant.
084930-00030 | ARC Abamectin 0.15 EC Insecticide.
084930-00031 | ARC-Ethephon 6 Plant Growth Regulator.
084930-00032 | ARC-Lamcy 13 EC Insecticide.
084930-00033 | ARC-Fomesafen.
084930-00034 | ARC-TFAN 4.5FL Fungicide.
084930-00035 | ARC-Trazine 4L Herbicide.
085583-00001 | DBNPA Technical.
085678-00012 | Captan 50 WP.
085678-00016 | Acephate Technical.
085678-00025 | Diuron 80 WDG.
085678-00026 | Acephate 97DF.
085678-00029 | Acephate 90WDG.
086089-00001 | The Pool Clor.
086089-00002 | The Pool Clor Plus.
086110-00001 | Superclear T100.
086130-00003 | FCB-13.
086130-00005 | FCB-15.
086130-00006 | Flowchem FCB-16.
086145-00002 | Magnolia Algaecide 60% Concentrated.
086145-00003 | Magnolia Brominating Tablets.
086244-00001 | BA-Kil.
086363-00002 | Dicamba 4 DMA.
086363-00003 | KT Chlorpyrifos 4E.
086363-00004 | Glyphosate 41.
086363-00005 | Tebucon 3.6 Flowable Fungicide.
086363-00006 | Dicamba 2,4-D DMA.
086363-00008 | Imidacloprid 2FL.
086363-00009 | Lambda-Cyhalothrin 13% EC Insecticide.
086363-00010 | Thiofan8 4.0.
086363-00013 | KT Fomesafen 2SL.
086363-00015 | KT Ethofumesate 4SC.
086363-00017 | KT Oxyflo 4SC.
086363-00018 | KT Oxyflo 2EC.
086363-00019 | KT Propanil 80DF.
086363-00020 | KT Propanil 4SC.
086363-00021 | KT CTL 720 Fungicide.
086794-00001 | Newagco Glyphosate Technical.
086794-00002 | Newagco Glyphosate Fully Loaded 41 Plus.
086794-00003 | Newagco Glyphosate 62% MUP.
086794-00004 | Mpower Clodinafop-Propargyl Technical.
086794-00006 | Mpower Clodinafop Herbicide.
087273-00002 | Pro Chlor Tabs.
087687-00001 | Eco-Clad Part A.
087722-00003 | Bactiblock 101 RP1.47.
087722-00004 | Bactiblock 101 S1.19.
087722-00005 | Bactiblock 920 B4.
087800-00001 | Teking 101M.
087800-00002 | Teking 101E.
087800-00003 | Teking 102.
088089-00003 | Peridox with the Electrostatic Decontamination System.
088402-00001 | Splash Chlor Bleach.
088407-00001 | Hydro Stick AOS 7017.
088622-00001 | T.O.P.S. System.
088665-00001 | Bugz-No-More Insecticide.
088691-00001 | Clear Bath Algae Inhibitor.
089016-00001 | LAG 1.
089016-00006 | LAG 6.
089094-00001 | Multi-Purpose Cleaner Spray.
089094-00005 | Floor Liquid.
089897-00002 | Ultrazapxtendapak Grapes.
090334-00001 | Xensation Cover AM1.
090960-00001 | Fly Away IGR Pro.
090963-00001 | Nipacide MX.
091097-00001 | Mpower Metolachlor II.
091097-00002 | Mpower 2,4-D 4 Amine.
091097-00003 | Mpower 2,4-D 6 Ester.
091097-00004 | Mpower Lambda.
091097-00005 | Mpower Clethodim.
091097-00006 | Mpower Bentazon.
091097-00007 | Mpower Dicamba DMA.
091097-00008 | Mpower Tebuconazole.
091097-00009 | Mpower Propiconazole.
091097-00010 | Mpower Azoxystrobin.
091145-00001 | Vex-Trol 30-30 ULV Mosquito Adulticide.
091145-00002 | Vex-Trol 31-67 ULV Mosquito Adulticide.
091145-00003 | Vex-Trol 4-4 ULV Mosquito Adulticide.
091145-00006 | Vex-Trol UL 4-8.
091145-00007 | Aqua Vex-Trol 30-30 ULV Mosquito Adulticide.
091234-00001 | Synag T-Methyl 4.5F.
091234-00005 | S105.1 Bifenthrin FC.
091795-00003 | Blue Shield BQ Algaecide.
091795-00006 | Blue Shield Jumbo Slo-Pokes.
091795-00007 | Blue Shield Slo-Tabs.
091795-00008 | Blue Shield P.D.Q. Tabs.
091795-00009 | Blue Shield Econo Shock.

IV. Provisions for Disposition of Existing Stocks

The effective date of cancellation will be the date of the cancellation order. The orders effecting these requested cancellations will generally permit a registrant to sell or distribute existing stocks until January 15, 2017, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

Authority: 7 U.S.C. 136 et seq.

Dated: September 19, 2016.
Delores Barber,
Director, Information Technology and Resources Management Division, Office of Pesticide Programs.

[FR Doc. 2016-23850 Filed 9-30-16; 8:45 am]

BILLING CODE 6560-50-P